DEPARTMENT OF COMMERCE

National Oceanic and Atmospheric Administration

[I.D. 110904A]

Magnuson-Stevens Act Provisions; General Provisions for Domestic Fisheries; Application for Exempted Fishing Permits

AGENCY: National Marine Fisheries Service (NMFS), National Oceanic and Atmospheric Administration (NOAA), Department of Commerce.

ACTION: Notification of a proposal for permits to conduct experimental fishing; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP would allow for exemptions from the FMP as follows: The Gulf of Maine (GOM) Rolling Closure Areas, the minimum mesh size for trawl gear, the Days-at-Sea (DAS) notification requirements, and the effort-control program (DAS). Regulations under the Magnuson-Stevens Fishery Conservation and Management Act require publication of this notification to provide interested parties the opportunity to comment on applications for proposed EFPs.

DATES: Comments must be received on or before December 3, 2004.

ADDRESSES: Written comments should be sent to Patricia A. Kurkul, Regional Administrator, NMFS, Northeast Regional Office, 1 Blackburn Drive, Gloucester, MA 01930. Mark the outside of the envelope “Comments on the GOM Rope Separator Trawl Study.” Comments may also be sent via fax to (978) 281-9135, or submitted via e-mail to the following address: da689@noaa.gov.

FOR FURTHER INFORMATION CONTACT: Karen Tasker, Fishery Management Specialist, phone 978-281-9273.

SUPPLEMENTARY INFORMATION: An application for an EFP was submitted on September 22, 2004, by Dr. Pingguo He of the University of New Hampshire (UNH) for a Cooperative Research Partnership Initiative contract project. The primary goal of the research is to design and test a rope separator trawl that targets haddock and pollock while releasing cod and flounder in inshore western GOM waters. The intent of the researchers is that the experimental net, if successful, could be suitable for fishing using B DAS in the future.

The project, which is anticipated to be 18 months in duration, would include flume tank trials and 12 days of at-sea trials during the first year of the project. At-sea trials would consist of three to four 1-hour tows per sea day. Additionally, researchers would use remote underwater video observation and acoustic gear geometry monitoring to assess the success of the net during at-sea trials. The design of the net would consist of a rope separator in place of the more common netting separator in order to simplify design and rigging; a large bottom escape area for cod, flatfishes, and benthos; and a raised fishing line running through long drop chains to further allow benthic species to escape. Researchers have requested a small mesh exemption to allow for the use of a second codend or a small-mesh cover to collect fish released from the trawl to assess the effectiveness of the separator trawl.

All specimens caught would be sampled and measured. All undersized fish would be returned to the sea as quickly as practical after measurement and examination. The overall fishing mortality is estimated to be 30 percent of the average commercial fishing mortality that would result from the proposed number of DAS. The researcher anticipates that a total of 6,249 lb (2,834.5 kg) of fish, including 1,550 lb (703.1 kg) of cod, will be harvested throughout the course of the study. Other species that are anticipated to be caught are haddock, dab, yellowtail flounder, winter flounder, grey sole, white hake, and pollock. All legal-sized fish, within the possession limit, will be sold, with the proceeds returned to the project for the purposes of future enhancing research.

The first year of the study would take place from May 1, 2005, to April 30, 2006. All at-sea research will be conducted from one fishing vessel. The trials would occur between 43°20′ and 42°30′ N. lat. and west of 70°15′ W. long., excluding the Western GOM Closure Area. Researchers have asked for an exemption to the regulations establishing the Western GOM Rolling Closure Areas because they believe that an optimum mixture of haddock and cod for testing the experimental gear will be present in the waters of the Western GOM during May and June. Because the aim of the project is to separate haddock and cod before the fish are brought onboard, an exemption from the Western GOM Rolling Closures is important to the success of the study. An exemption from DAS is requested since a commercial DAS level of effort will not likely be realized due to the additional time necessary to weigh, measure, and sort the catch, and to adjust underwater video and acoustic monitoring systems.

Authority: 16 U.S.C. 1801 et seq.

Dated: November 12, 2004.
Alan D. Risenhoover,
Acting Director, Office of Sustainable Fisheries, National Marine Fisheries Service.

[FR Doc. E4-3204 Filed 11-17-04; 8:45 am]

BILLING CODE 3510-22-S